DEPARTMENT OF LABOR

Office of the Secretary

Combating Exploitive Child Labor Through Education

AGENCY: Bureau of International Labor Affairs, Department of Labor.

ACTION: Notice of intent to solicit cooperative agreement applications.

SUMMARY: The U.S. Department of Labor (USDOL), Bureau of International Labor Affairs (ILAB), intends to obligate approximately USD 20 million to support cooperative agreement awards to organizations to address exploitive child labor internationally. ILAB intends to award, through a competitive and merit-based process, cooperative agreements to organizations to develop projects to combat exploitive child labor through education in the following four countries: Guatemala, Indonesia, Nepal, and Rwanda. ILAB intends to fund projects that focus on withdrawing and preventing children who are engaged in, or at risk of engaging in, exploitive child labor through the provision of direct educational services, such as formal and non-formal education and vocational training programs. The projects should propose innovative ways to provide these educational services to target populations and address the gaps and challenges to basic education found in the countries mentioned above, including by working with governments of host countries to eliminate school fees that create a barrier to education. ILAB intends to solicit cooperative agreement applications from qualified organizations (i.e., any commercial, international, educational, or non-profit organization, including any faith-based, community-based, or public international organizations(s), capable of successfully developing and implementing child labor projects) to implement these projects. Please refer to http://www.dol.gov/ilab/grants/grants-past.htm for examples of previous notices of availability of funds and solicitations for cooperative agreement applications (SGAs).

Key Dates: The forthcoming solicitation(s) for cooperative agreement applications will be published on http://www.grants.gov and USDOL/ILAB's Web site. A brief synopsis of the SGA(s), which will include Web site links to the full text solicitation(s), will be published in the Federal Register. The SGA(s) will remain open for at least 60 days from the date of publication. All cooperative agreement awards will be made on or before September 30, 2009.

Submission Information: Applications in response to the forthcoming solicitation(s) may be submitted electronically via http://www.grants.gov or hard copy by mail. Hard copy applications must be delivered to: U.S. Department of Labor, Procurement Services Center, 200 Constitution Avenue, NW., Room S-4307, Washington, DC 20210, Attention: Lisa Harvey. Any application sent by other delivery methods, including e-mail, telegram, or facsimile (FAX) will not be accepted.

FOR FURTHER INFORMATION CONTACT: Ms. Lisa Harvey. E-mail address: harvey.lisa@dol.gov. All inquiries should make reference to the USDOL Combating Child Labor through Education—Solicitations for Cooperative Agreement Applications.Information on specific target groups, sectors, geographic regions, and funding levels for the potential projects in the countries listed above will be addressed in one or more solicitations for cooperative agreement applications to be published prior to September 30, 2009. Potential applicants should not submit inquiries to USDOL for further information on these award opportunities until after USDOL's publication of the solicitation(s). For a list of frequently asked questions on ILAB's Solicitations for Cooperative Agreement Applications (based on last year's solicitation, SGA 08-01), please visit http://www.dol.gov/ilab/grants/sg08-01-faq.htm.

Bidders' Meeting: USDOL intends to hold a bidders' meeting on May 28, 2009 in Washington, DC at the Department of Labor from 1:30 p.m. to 3:30 p.m. The purpose of this meeting is to provide potential applicants with the opportunity to ask questions concerning this Solicitation for Cooperative Agreement Applications process. To register for the meeting, please call or e-mail Ms. Doris Senko (Phone: 202-693-4843; E-mail: senko.doris@dol.gov) by May 21, 2009. Please provide Ms. Senko with attendees' contact information, including name, organization, address, phone number, and e-mail address.

Background Information: Since 1995, the U.S. Congress has appropriated over USD 720 million to ILAB for efforts to combat exploitive child labor internationally. This funding has been used to support technical cooperation projects to combat exploitive child labor, including the worst forms, in more than 80 countries around the world. Technical cooperation projects funded by USDOL range from targeted action programs in specific sectors of work to more comprehensive programs that support national efforts to eliminate the worst forms of child labor, as defined by International Labor Organization (ILO) Convention 182. Projects funded by USDOL to combat exploitive child labor internationally seek to:

1. Withdraw and prevent children from involvement in exploitive child labor through the provision of direct educational and training services;

2. Strengthen policies on child labor and education, the capacity of national institutions to combat child labor, and formal and transitional education systems that encourage working children and those at risk of working to attend school;

3. Raise awareness of the importance of education for all children and mobilize a wide array of actors to improve and expand education infrastructures;

4. Support research and the collection of reliable data on child labor; and

5. Ensure the long-term sustainability of these efforts.

Since 2001, USDOL-funded projects have withdrawn or prevented over 1 million children from exploitive child labor.

Signed at Washington, DC, this 6th day of April 2009.
Lisa Harvey,
Grant Officer.

[FR Doc. E9-8151 Filed 4-9-09; 8:45 am]

BILLING CODE 4510-28-P